DEPARTMENT OF THE INTERIOR

National Park Service

[NPS-WASO-NRNHL-25032; PPWOCRADI0, PCU00RP14.R50000]

National Register of Historic Places; Notification of Pending Nominations and Related Actions

AGENCY: National Park Service, Interior.

ACTION: Notice.

SUMMARY: The National Park Service is soliciting comments on the significance of properties nominated before February 3, 2018, for listing or related actions in the National Register of Historic Places.

DATES: Comments should be submitted by March 13, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 3, 2018. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

Dome House, 7199 E. Grapevine Rd., Cave Creek, SG100002208

Borah House, 72 East Country Club Dr., Phoenix, SG100002209

GEORGIA

Fulton County

Peachtree Center Historic District, Roughly bounded by Andrew Young International Blvd., Peachtree Center Ave, Courtland St., Baker St, and Williams St., Atlanta, SG100002207

HAWAII

Hawaii County

Botelho, M.S., Building and Garage, 45-3490 Mamane St., Honoka'a, MP100002214

Honolulu County

Cooke, Sam and Mary, Residence, 2829 Manoa Rd., Honolulu, SG100002213

MASSACHUSETTS

Bristol County

Russell Garrison, Fort Street, Dartmouth, SG100002215

OKLAHOMA

Garfield County

Enid High School Observatory, 611 W. Wabash Ave., Enid, SG100002216

Oklahoma County

Dunbar Elementary School, 1432 Northeast Seventh St., Oklahoma City, SG100002217

1210-1212-1214 North Hudson Historic District, 1210-1214 North Hudson, Oklahoma City, SG100002218

First National Bank and Trust Company Building, 120 N. Robinson Ave. and 111 N. Broadway Ave., Oklahoma City, SG100002220

Okmulgee County

Okmulgee Country Club and Golf Course, 1400 S. Mission Ln., Okmulgee, SG100002219

VIRGINIA

Stafford County

Bethlehem Primitive Baptist Church Cemetery, 135 Chapel Green Rd., Fredricksburg vicinity, SG100002206

Additional documentation has been received for the following resources:

ARIZONA

Pima County

Rincon Heights Historic District, Roughly bounded by 6th St., Broadway Blvd., Campbell & Fremont Aves., Tucson, AD12001190

Yavapai County

Clarkdale Historic District, Roughly along Main St., roughly bounded by Verde R. including industrial smelter site, Clarkdale, AD97001586

Nominations submitted by Federal Preservation Officers:

The State Historic Preservation Officer reviewed the following nominations and responded to the Federal Preservation Officer within 45 days of receipt of the nominations and supports listing the properties in the National Register of Historic Places.

CALIFORNIA

Humboldt County

Lyons Ranches Historic District, Bald Hills Rd., Orick vicinity, SG100002212

NEW MEXICO

Santa Fe County

El Camino Real de Tierra Adentro—La Bajada North Section, Address Restricted, La Cienega vicinity, MP100002204

El Camino Real de Tierra Adentro—La Bajada South Section, Address Restricted, La Cienega vicinity, MP100002205.

Authority: 60.13 of 36 CFR part 60.

Dated: February 9, 2018.
Christopher Hetzel,
Acting Chief, National Register of Historic Places/National Historic Landmarks Program.

[FR Doc. 2018-03807 Filed 2-23-18; 8:45 am]

BILLING CODE 4312-52-P